DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veteran Affairs (VA) is amending the system of records currently entitled “Non-VA Fee Basis Records—VA” (23VA16) as set forth in the Federal Register 74 FR 44905-44911, August 31, 2009. VA is amending the system of records by revising the System Name, System Number, System Location, Category of Records in the System, Authority for Maintenance, Purpose, Retention and Disposal, System Manager and Address, and Record Access Procedure, and Records Source Categories. VA is republishing the system notice in its entirety.

DATES: Comments on the amendment of this system of records must be received no later than August 31, 2015. If no public comment is received, the amended system will become effective August 31, 2015.

ADDRESSES: Written comments may be submitted through www.Regulations.gov; by mail or hand-delivery to Director, Regulations Management (02REG), Department of Veterans Affairs, 810 Vermont Avenue NW., Room 1068, Washington, DC 20420; or by fax to (202) 273-9026. Comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System (FDMS) at www.Regulations.gov.

FOR FURTHER INFORMATION CONTACT: Veterans Health Administration (VHA) Privacy Officer, Department of Veterans Affairs, 810 Vermont Avenue NW., Washington, DC 20420; telephone (704) 245-2492.

SUPPLEMENTARY INFORMATION: VA is renaming the system of records from Non-VA Fee Basis Records-VA to Non-VA Care (Fee) Records-VA. The system number is changed from 23VA16 to 23VA10NB3 to reflect the current organizational alignment.

The System Location in this system of records is being amended to include the VA Financial Services Center (FSC), Austin, Texas; Austin Information Technology Center (AITC), Austin, Texas. This section will remove electronic images of fee claims processed as certified payments retained at the VA Financial Service Center (FSC) & Austin Information Technology Center (AITC), Austin, Texas. The words Non-VA Care and Purchased Care have also been included.

The Category of Records in the System is amended to include Explanation of Benefits. The Authority for Maintenance of the System is being amended to include Title 26 U.S.C 61, U.S.C. 31, 1151,1741-1743, 1781, 1786, 1787, 3102, 5701 (b)(6)(g)(2)(g)(4)(c)(1), 5724, 7332, 8131-8137. 38 Code of Federal Regulations 2.6 and 45 CFR part 160 and 164. Title 44 U.S.C and Title 45 U.S.C. Veterans Access, Choice, and Accountability Act of 2014.

The Purpose in this system of records is being amended to include Third Party Liability. Also, this section will include the VA FSC as one of the agencies conducting audits, reviews, and investigations.

The Retention and Disposal is being amended to include Non-VA Care. The System Manager and Address is amending the official maintaining the System as the Director, National Non-VA Care (Fee) Program Office, VHA Chief Business Office Purchased Care.

The Record Access Procedure section is being amended to include health records. Also including those individuals seeking information regarding access to claims and/or billing records will write to the VHA Chief Business Office Purchased Care, Privacy Act Office, P.O. BOX 469060, Denver, CO. All Requests for records about another person are required to provide a Request for an Authorization to Release Medical Records or Health Information signed by the record subject by using form VA Form 10-5345.

The Record Source Categories is being amended to include the VA FSC as a source of information to the record system.

The Report of Intent to Amend a System on Records Notice and an advance copy of the system notice have been sent to the appropriate Congressional committees and to the Director of the Office of Management and Budget (OMB) as required by 5 U.S.C. 552a(r) (Privacy Act) and guidelines issued by OMB (65 FR 77677), December 12, 2000.

Signing Authority: The Secretary of Veterans Affairs, or designee, approved this document and authorized the undersigned to sign and submit the document to the Office of the Federal Register for publication electronically as an official document of the Department of Veterans Affairs. Robert L. Nabors II, Chief of Staff, approved this document on [insert date], for publication.

Approved: July 9, 2015.
Kathleen M. Manwell,
Program Analyst, VA Privacy Service, Office of Privacy and Records Management, Department of Veterans Affairs.

23VA10NB3

SYSTEM NAME:

Non-VA Care (Fee) Records-VA

SYSTEM LOCATION:

Paper and electronic records, including electronic images of Non-VA Care (fee) claims are maintained at the authorizing VA healthcare facility; the VA Financial Services Center (FSC), Austin, Texas; Austin. Information Technology Center (AITC), Austin, Texas; and Federal record centers. Information is also stored in automated storage media records that are maintained at the authorizing VA healthcare facility; VA Chief Business Office Purchased Care (CBOPC), Denver, Colorado; Department of Veterans Affairs Headquarters, Washington, DC; VA Allocation Resource Center (ARC), Braintree, Massachusetts; VA Office of Information Field Offices (OIFOs); and FSC & AITC. Address locations for VA facilities are listed in VA Appendix 1 of the biennial Privacy Act Issuances publication.

CATEGORIES OF INDIVIDUALS COVERED BY THE SYSTEM:

1. Veterans who seek healthcare services under 38 U.S.C. Chapter 17.

2. Beneficiaries of other Federal agencies authorized VA medical services.

3. Pensioned members of allied forces seeking healthcare services under 38 U.S.C.109.

4. Healthcare providers treating individuals who receive care under 38 U.S.C. Chapters 1 and 17.

CATEGORIES OF RECORDS IN THE SYSTEM:

Records maintained in this system include application, eligibility, and claim information regarding payment determination for medical services provided to VA beneficiaries by non-VA healthcare institutions and providers. Application and eligibility data may include personal information of the claimant (e.g., name, address, social security number, date of birth, date of death, VA claim number, other health insurance data), description of VA adjudicated compensable or non-compensable medical conditions, and military service data (e.g., dates, branch and character of service, medical information). Claim data in this system may include information needed to properly consider claims for payment such as an Explanation of Benefit (EOB), description of the medical conditions treated and services provided, authorization and treatment dates, amounts claimed for healthcare services, health records including films, and payment information (e.g., invoice number, account number, date of payment, payment amount, check number, payee identifiers). Additional information may include the healthcare provider's name, address, and taxpayer identification number, correspondence concerning individuals and documents pertaining to claims for medical services, reasons for denial of payment, and appellate determinations.

AUTHORITY FOR MAINTENANCE OF THE SYSTEM:

Title 5 U.S.C 301, Title 26 U.S.C 61. Title 38, U.S.C. sections 31, 109, 111, 501, 1151 1703, 1705, 1710, 1712, 1717, 1720, 1721, 1724, 1725, 1727, 1728, 1741-1743, 1781, 1786, 1787, 3102, 5701 (b)(6)(g)(2)(g)(4)(c)(1), 5724, 7105, 7332, and 8131-8137. 38 Code of Federal Regulations 2.6 and 45 CFR part 160 and 164. Title 44 U.S.C and Title 45 U.S.C. Veterans Access, Choice, and Accountability Act of 2014.

PURPOSE(S):

Records may be used to establish, determine, and monitor eligibility to receive VA benefits and for authorizing and paying Non-VA healthcare services furnished to veterans and beneficiaries. Other uses of this information include reporting healthcare provider earnings to the Internal Revenue Service; Third Party Liability, preparing responses to inquiries; performing statistical analyses for use in managerial activities, resource allocation and planning; processing and adjudicating administrative benefit claims by VBA Regional Office (RO) staff; conducting audits, reviews and investigations by staff of the VA healthcare facility, Veterans Integrated Service Network (VISN) Offices, VA FSC, VA Headquarters, and the VA Office of Inspector General (OIG); in the conduct of law enforcement investigations; and in the performance of quality assurance audits, reviews and investigations.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR parts 160 and 164 permitting disclosure.

1. VA may disclose on its own initiative any information in this system, except the names and home addresses of veterans and their beneficiaries, which is relevant to a suspected or reasonably imminent violation of law, whether civil, criminal or regulatory in nature, and whether arising by general or program statute or by regulation, rule or order issued pursuant thereto, to a Federal, State, local, or Tribal agency charged with the responsibility of investigating or prosecuting such violation, or charged with enforcing or implementing the statute, regulation, rule or order. VA may disclose on its own initiative the names and addresses of Veterans and their beneficiaries to a Federal agency charged with the responsibility of investigating or prosecuting civil, criminal, or regulatory violations of law, or charged with enforcing or implementing the statute, regulation, rule or order issued pursuant thereto.

2. A record from this system of records may be disclosed to a Federal, State, or local government agency, maintaining civil, criminal, or other relevant information, such as current licenses, registration or certification, if necessary, to obtain information relevant to an agency decision concerning the hiring or retention of an employee, the use of an individual as a consultant, attending or to provide Non-VA Care (fee), the issuance of a security clearance, the letting of a contract, or the issuance of a license, grant, or other health, educational or welfare benefits. Any information in this system also may be disclosed to any of the above-listed governmental organizations as part of a series of ongoing computer matches to determine if VA healthcare practitioners and private practitioners used by the VA hold current, unrestricted licenses, or are currently registered in a State, and are board certified in their specialty, if any.

3. VA may disclose information from this system of records to a Federal agency or the District of Columbia government, in response to its request, in connection with the hiring or retention of an employee and the issuance of a security clearance as required by law, the reporting of an investigation of an employee, the issuance of a license, grant, or other benefit by the requesting agency, to the extent that the information is relevant and necessary to the requesting agency's decision.

4. Information from this system of records may be disclosed to the Department of the Treasury to facilitate VA payment to physicians, clinics, and pharmacies for reimbursement of services rendered, to facilitate payments to veterans for reimbursements of authorized expenses, or to collect, by set off or otherwise, debts owed the United States.

5. Disclosure may be made to a congressional office, from the record of an individual, in response to an inquiry from the congressional office made at the request of that individual.

6. Disclosure may be made to National Archives and Records Administration (NARA), and General Services Administration (GSA) in records management inspections conducted under authority of 44 United States Code.

7. Records from this system of records may be disclosed to a Federal agency or to a State or local government licensing board and/or to the Federation of State Medical Boards or a similar nongovernment entity which maintains records concerning individuals' employment histories or concerning the issuance, retention or revocation of licenses, certifications, or registration necessary to practice an occupation, profession or specialty, in order for the agency to obtain information relevant to an agency decision concerning the hiring, retention or termination of an employee or to inform a Federal agency or licensing boards or the appropriate non-government entities about the healthcare practices of a terminated, resigned or retired healthcare employee whose professional healthcare activity so significantly failed to conform to generally accepted standards of professional medical practice as to raise reasonable concern for the health and safety of patients in the private sector or from another Federal agency. These records may also be disclosed as part of an ongoing computer-matching program to accomplish these purposes.

8. Identifying information in this system, including name, address, social security number, and other information as is reasonably necessary to identify such individual, may be disclosed to the National Practitioner Data Bank at the time of hiring and/or clinical privileging of healthcare practitioners, and other times as deemed necessary by VA, in order for VA to obtain information relevant to a Department decision concerning the hiring, privileging, retention or termination of the applicant or employee.

9. Relevant information from this system of records may be disclosed to the National Practitioner Data Bank and/or State Licensing Board in the State(s) in which a practitioner is licensed, in which the VA facility is located, and/or in which an act or omission occurred upon which a medical malpractice claim was based when VA reports information concerning: (a) Any payment for the benefit of a physician, dentist, or other licensed healthcare practitioner which was made as the result of a settlement or judgment of a claim of medical malpractice if an appropriate determination is made in accordance with agency policy that payment was related to substandard care, professional incompetence or professional misconduct on the part of the individual; (b) a final decision which relates to possible incompetence or improper professional conduct that adversely affects the clinical privileges of a physician or dentist for a period longer than 30 days; or (c) the acceptance of the surrender of clinical privileges or any restriction of such privileges by a physician or dentist either while under investigation by the healthcare entity relating to possible incompetence or improper professional conduct, or in return for not conducting such an investigation or proceeding. These records may also be disclosed as part of a computer-matching program to accomplish these purposes.

10. Relevant identifying and medical treatment information (excluding medical treatment information related to drug or alcohol abuse, infection with the human immunodeficiency virus or sickle cell anemia) may be disclosed to a Federal agency or non-VA healthcare provider or institution, including their billing or collection agent, when VA refers a patient for treatment or medical services, or authorizes a patient to obtain non-VA medical services and the information is needed by the Federal agency or non-VA institution or provider to perform the services, or for VA to obtain sufficient information in order to consider or make payment for health care services, to evaluate the services rendered, or to determine the need for additional services.

11. Information maintained in this system concerning non-VA healthcare institutions and providers, including name, address, social security or employer's taxpayer identification numbers, may be disclosed to the Department of the Treasury, Internal Revenue Service, to report calendar year earnings of $600 or more for income tax reporting purposes.

12. The name, date of birth and social security number of a Veteran or beneficiary, and any other identifying and claim information as is reasonably necessary, such as provider identification, description of services furnished, and VA payment amount, may be disclosed to another Federal agency for its use in identifying potential duplicate payments for healthcare services paid by Department of Veteran Affairs and that agency. This information may also be disclosed as part of a computer matching agreement to accomplish this purpose.

13. Relevant information from this system of records may be disclosed to individuals, organizations, or private or public agencies, with whom VA has a contract or agreement to perform such services as VA may deem practicable for the purposes of laws administered by VA, in order for the contractor or subcontractor to perform the services of the contract or agreement.

14. Any relevant information in this system of records may be disclosed to attorneys, insurance companies, employers, and courts, boards, or commissions; such disclosures may be made only to the extent necessary to aid VA in the preparation, presentation, and prosecution of claims authorized under Federal, State, or local laws, and regulations promulgated thereunder.

15. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

16. Any information in this system may be disclosed in connection with any proceeding for the collection of an amount owed to the United States by virtue of a person's participation in any benefit program administered by the Veterans Health Administration when in the judgment of the Secretary, or an official generally delegated such authority under standard agency delegation of authority rules (38 CFR 2.6), such disclosure is deemed necessary and proper, in accordance with 38 U.S.C. 5701(b)(6).

17. The name and address of a veteran or beneficiary, and other information as is reasonably necessary to identify such individual, including personal information obtained from other Federal agencies through computer matching programs, and any information concerning the individual's indebtedness to the United States by virtue of the individual's participation in a benefits program administered by VA, may be disclosed to a consumer reporting agency for the purpose of locating the individual, obtaining a consumer report to determine the ability of the individual to repay an indebtedness, or assisting in the collection of such indebtedness provided that the applicable requirements of 38 U.S.C. 5701(g)(2) and 38 U.S.C. 5701(g)(4) have been met.

18. In response to an inquiry about a named individual from a member of the general public, information from this system may be disclosed to report the amount of VA monetary benefits being received by the individual. This disclosure is consistent with 38 U.S.C. 5701(c)(1).

19. VA may disclose information from this system to a Federal agency for the purpose of conducting research and data analysis to perform a statutory purpose of that Federal agency upon the prior written request of that agency, provided that there is legal authority under all applicable confidentiality statutes and regulations to provide the data and VA has determined prior to the disclosure that the VA data handling requirements are satisfied.

20. Any information in this system of records relevant to a claim of a Veteran or beneficiary, such as the name, address, the basis and nature of a claim, amount of benefit payment information, medical information and military service and active duty separation information may be disclosed to accredited service organizations, VA approved claim agents and attorneys acting under a declaration of representation, so that these individuals can aid claimants in the preparation, presentation and prosecution of claims under the laws administered by VA. The name and address of a claimant will not, however, be disclosed to these individuals under this routine use if the claimant has not requested the assistance of an accredited service organization, claims agent or an attorney.

21. Any information in this system, including medical information, the basis and nature of claim, the amount of benefits, and other personal information may be disclosed to a VA Federal fiduciary or a guardian ad litem in relation to his or her representation of a claimant, but only to the extent necessary to fulfill the duties of the VA Federal fiduciary or the guardian ad litem.

22. The individual's name, address, social security number and the amount (excluding interest) of any indebtedness which is waived under 38 U.S.C. 3102, compromised under 4 CFR part 103, otherwise forgiven, or for which the applicable statute of limitations for enforcing collection has expired, may be disclosed to the Department of the Treasury, Internal Revenue Service, as a report of income under 26 U.S.C. 61(a)(12).

23. The name of a veteran or beneficiary, other information as is reasonably necessary to identify such individual, and any other information concerning the individual's indebtedness by virtue of a person's participation in a benefits program administered by VA, may be disclosed to the Department of the Treasury, Internal Revenue Service, for the collection of Title 38 benefit overpayments, overdue indebtedness, and/or costs of services provided to an individual not entitled to such services, by the withholding of all or a portion of the person's Federal income tax refund.

24. The name, date of birth, and social security number of a Veteran or beneficiary, and other identifying information as is reasonably necessary may be disclosed to Social Security Administration for the purpose of validating social security numbers. This information may also be disclosed as part of a computer matching agreement to accomplish this purpose.

25. The name and address of any healthcare provider in this system of records who has received payment for claimed services in behalf of a Veteran or beneficiary may be disclosed in response to an inquiry from a member of the general public.

26. Relevant information from this system of records may be disclosed to an accrediting Quality Review and Peer Review Organization with which VA has an agreement or contract to conduct such reviews in connection with the review of claims or other review activities associated with VA healthcare facility accreditation to professionally accepted standards, such as The Joint Commission or Utilization Review Accreditation Commission (URAC) or American Accreditation HealthCare Commission.

27. Eligibility and claim information from this system of records may be disclosed verbally or to a healthcare provider seeking reimbursement for claimed medical services to facilitate billing processes, verify eligibility for requested healthcare services, and provide payment information for claimed services. Eligibility or entitlement information disclosed may include the name, social security number, effective dates of eligibility, reasons for any period of ineligibility, and evidence of other health insurance information of the named individual. Claim information disclosed may include payment information such as payment identification number, date of payment, date of service, amount billed, amount paid, name of payee, and reasons for non-payment.

28. Identifying information, including social security number of Veterans, spouse(s) of Veterans, and dependents of Veterans, may be disclosed to other Federal agencies for purposes of conducting computer matches, to obtain information to determine or verify eligibility of Veterans who are receiving VA medical care under relevant sections of Title 38 U.S.C.

29. VA may disclose patient identifying information to Federal agencies and VA and government-wide third-party insurers responsible for payment of the cost of medical care for the identified patients, in order for VA to seek recovery of the medical care costs. These records may also be disclosed as part of a computer matching program to accomplish this purpose.

30. Disclosure to other Federal agencies may be made to assist such agencies in preventing and detecting possible fraud or abuse by individuals in their operations and programs.

31. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM:

STORAGE:

Records are maintained on paper documents or stored electronically by magnetic discs, magnetic tape, and optical or digital imaging at the authorizing VA healthcare facility. Reports and information on automated storage media (e.g., microfilm, microfiche, magnetic tape and disks, and digital and laser optical media) is stored at the authorizing VA healthcare facility, VA Headquarters, ARC, OIFOs, FSC, AITC, and Veterans Integrated Service Network (VISN) offices.

Information pertaining to electronic claims submitted to VA for payment consideration may be stored at the authorizing VA healthcare facility, FSC, AITC, and at CBOPC. Records maintained at CBOPC are stored electronically.

RETRIEVABILITY:

Paper and electronic records pertaining to the individual may be retrieved by the name or Social Security number of the record subject. Records pertaining to the healthcare provider are retrieved by the name or Social Security and taxpayer identification number of the non-VA healthcare institution or provider. Records at the ARC are retrieved only by Social Security number.

SAFEGUARDS:

1. VA will maintain the data in compliance with applicable VA security policy directives that specify the standards that will be applied to protect sensitive personal information. Contractors and their subcontractors who access the data are required to maintain the same level of security as VA staff. Working spaces and record storage areas in VA facilities are restricted to VA employees. Generally, file areas are locked after normal duty hours and healthcare facilities are protected from outside access by security personnel. Access to the records is restricted to VA employees who have a need for the information in the performance of their official duties. Employee records or records of public figures or otherwise sensitive records are generally stored in separate locked files.

2. Electronic data security complies with applicable Federal Information Processing Standards (FIPS) issued by the National Institute of Standards and Technology (NIST). Access to computer rooms at healthcare facilities is generally limited by appropriate locking devices and restricted to authorized VA employees and vendor personnel. Peripheral devices are generally placed in secure areas (areas that are locked or have limited access) or are otherwise protected. Access to file information is controlled at two levels: The system recognizes authorized employees by a series of individually unique passwords/codes that must be changed periodically by the employee, and employees are limited by role-based access to only that information in the file which is needed in the performance of their official duties. Information that is downloaded and maintained on personal computers is afforded similar storage and access protections as the data that is maintained in the original files. Remote access to file information by staff of the OIFOs, and access by OIG staff conducting an audit or investigation at the healthcare facility or an OIG office location remote from the healthcare facility is controlled in the same manner.

3. Access to FSC and AITC is generally restricted to each Center's employees, custodial personnel and security personnel. Access to computer rooms is restricted to authorized operational personnel through electronic locking devices. All other persons gaining access to computer rooms are escorted. Authorized VA employees at remote locations, including VA healthcare facilities, OIFOs, VA Headquarters, VISN offices, and OIG headquarters and field staff, may access information stored in the computer. Access is controlled by individually unique passwords/codes that must be changed periodically by the employee.

4. Access to records maintained at VA Headquarters, ARC, OIFOs, and VISN offices is restricted to VA employees who have a need for the information in the performance of their official duties. Access to information stored on automated storage media is controlled by individually unique passwords/codes that must be changed periodically by the employee. Authorized VA employees at remote locations including VA healthcare facilities may access information stored in the computer. Access is controlled by individually unique passwords/codes. Records are maintained in manned rooms during nonworking hours. The facilities are protected from outside access during working hours by security personnel.

5. Information downloaded and maintained by the OIG Headquarters and field offices on automated storage media is secured in storage areas or facilities to which only OIG staff members have access. Paper documents are similarly secured. Access to paper documents and information on automated storage media is limited to OIG employees who have a need for the information in the performance of their official duties. Access to information stored on automated storage media is controlled by individually unique passwords/codes.

6. Access to records maintained at CBOPC Office of Information and Technology (OI&T) is restricted to VA employees who have a need for the information in the performance of their official duties. Access to information stored on automated storage media is controlled by individually unique passwords/codes that must be changed periodically by the employee. Authorized VA employees at remote locations including VA healthcare facilities may access and print information stored in the computer. Access is controlled by individually assigned unique passwords/codes. Records are maintained in a secured, pass card protected and alarmed room. The facilities are protected from outside access during non-working hours by security personnel.

RETENTION AND DISPOSAL:

Paper and electronic documents at the authorizing healthcare facility related to authorizing the Non-VA Care (fee) and the services authorized, billed and paid for are maintained in “Patient Medical Records—VA” (24VA10P2). These records are retained at healthcare facilities for a minimum of three years after the last episode of care. After the third year of inactivity the paper records are transferred to a records facility for seventy-two (72) more years of storage.

Automated storage media, imaged Non-VA Care (fee) claims, and other paper documents that are included in this system of records and not maintained in “Patient Medical Records—VA” (24VA10P2) are retained and disposed of in accordance with disposition authority approved by the Archivist of the United States.

Paper records that are imaged for viewing electronically are destroyed after they have been scanned, and the electronic copy is determined to be an accurate and complete copy of the paper record imaged.

SYSTEM MANAGER(S) AND ADDRESS:

Official responsible for policies and procedures: Chief Business Officer (10NB), Department of Veterans Affairs, Veterans Health Administration, VA Central Office, 810 Vermont Avenue NW., Washington, DC 20420. Official Maintaining the System: Director, National Non-VA Care (Fee) Program Office, VHA Chief Business Office Purchased Care, P.O. Box 469066, Denver, CO 80246.

NOTIFICATION PROCEDURE:

An individual who wishes to determine whether a record is being maintained in this system under the individual's name or other personal identifier, or who wants to determine the contents of such record, should submit a written request or apply in person to the last VA healthcare facility where care was authorized or rendered. Addresses of VA healthcare facilities may be found in VA Appendix 1 of the Biennial Publication of Privacy Act Issuances. All inquiries must reasonably identify the portion of the Non-VA Care (fee) record involved and the place and approximate date that medical care was provided. Inquiries should include the patient's full name, social security number, and return address.

RECORD ACCESS PROCEDURE:

Individuals seeking information regarding access to health records and/or contesting health l records may write, call or visit the VA facility where medical care was last authorized or provided. Individuals seeking information regarding access to claims and/or billing records will write to the VHA Chief Business Office Purchased Care, Privacy Office, PO BOX 469060, Denver, CO. All Requests for records about another person are required to provide a Request for an Authorization to Release Medical Records or Health Information signed by the record subject by using form VA Form 10-5345.

CONTESTING RECORD PROCEDURES:

(See Record Access Procedures above.)

RECORD SOURCE CATEGORIES:

The Veteran or other VA beneficiary, family members or accredited representatives, and other third parties; military service departments; private medical facilities and healthcare professionals; electronic trading partners; other Federal agencies; Veterans Health Administration facilities and automated systems; Veterans Benefits Administration facilities and automated systems; VA FSC facility and automated systems; and deployment status and availability.

[FR Doc. 2015-18646 Filed 7-29-15; 8:45 am]

BILLING CODE 8320-01-P